DEPARTMENT OF AGRICULTURE

Animal and Plant Health Inspection Service

9 CFR Part 77

[Docket No. 99-063-2]

Tuberculosis in Cattle and Bison; State Designations; California, Pennsylvania, and Puerto Rico

AGENCY: Animal and Plant Health Inspection Service, USDA.

ACTION: Affirmation of interim rule as final rule.

SUMMARY: We are adopting as a final rule, without change, an interim rule that amended the tuberculosis regulations concerning the interstate movement of cattle and bison by raising the designations of California, Pennsylvania, and Puerto Rico from modified accredited States to accredited-free States. We have determined that California, Pennsylvania, and Puerto Rico meet the criteria for designation as accredited-free States.

EFFECTIVE DATE: The interim rule became effective on October 14, 1999.

FOR FURTHER INFORMATION CONTACT: Dr. Joseph VanTiem, Senior Staff Veterinarian, National Animal Health Programs, VS, APHIS, 4700 River Road Unit 43, Riverdale, MD 20737-1231; (301) 734-7716.

SUPPLEMENTARY INFORMATION:

Background

In an interim rule effective October 14, 1999, and published in the Federal Register on October 20, 1999 (64 FR 56399-56400, Docket No. 99-063-1), we amended the tuberculosis regulations in 9 CFR part 77 by removing California, Pennsylvania, and Puerto Rico from the list of modified accredited States in § 77.1 and adding them to the list of accredited-free States in that section.

Comments on the interim rule were required to be received on or before December 20, 1999. We did not receive any comments. Therefore, for the reasons given in the interim rule, we are adopting the interim rule as a final rule.

This action also affirms the information contained in the interim rule concerning Executive Order 12866 and the Regulatory Flexibility Act, Executive Orders 12372 and 12988, and the Paperwork Reduction Act.

Further, for this action, the Office of Management and Budget has waived the review process required by Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 64 FR 56399-56400 on October 20, 1999.

Authority: 21 U.S.C. 111, 114, 114a, 115-117, 120, 121, 134b, and 134f; 7 CFR 2.22, 2.80, and 371.2(d).

Done in Washington, DC, this 2nd day of February 2000.
Bobby R. Acord,
Acting Administrator, Animal and Plant Health Inspection Service.

[FR Doc. 00-2779 Filed 2-7-00; 8:45 am]

BILLING CODE 3410-34-U